GENERAL SERVICES ADMINISTRATION

[OMB Control No. 3090-0027; Docket 2015-0001; Sequence 1]

General Services Administration Acquisition Regulation; Information Collection; Contract Administration, Quality Assurance (GSA Form 1678 and GSA Form 308)

AGENCY: Office of Acquisition Policy, GSA.

ACTION: Notice of request for comments regarding an extension to an existing OMB clearance.

SUMMARY: Under the provisions of the Paperwork Reduction Act, the General Services Administration will be submitting to the Office of Management and Budget (OMB) a request to review and approve an extension of a previously approved information collection requirement regarding contract administration, and quality assurance.

DATES: Submit comments on or before: May 11, 2015.

FOR FURTHER INFORMATION CONTACT: Ms. Dana Munson, Procurement Analyst, General Services Acquisition Policy Division, at 202-357-9652 or via email to dana.munson@gsa.gov.

ADDRESSES: Submit comments identified by Information Collection 3090-0027, Contract Administration and Quality Assurance (GSA Form 1678 and GSA Form 308), by any of the following methods:

• Regulations.gov: http://www.regulations.gov. Submit comments via the Federal eRulemaking portal by searching the OMB Control number 3090-0027. Select the link “Comment Now” that corresponds with “Information Collection 3090-0027, Contract Administration and Quality Assurance (GSA Form 1678 and GSA Form 308)”. Follow the instructions on the screen. Please include your name, company name (if any), and “Information Collection 3090-0027, Contract Administration and Quality Assurance (GSA Form 1678 and GSA Form 308)”, on your attached document.

• Fax: 202-501-4067.

• Mail: General Services Administration, Regulatory Secretariat (MVCB), 1800 F Street NW., Washington, DC 20406. ATTN: Ms. Hada Flowers/IC 3090-0027, Contract Administration and Quality Assurance (GSA Form 1678 and GSA Form 308).

Instructions: Please submit comments only and cite Information Collection 3090-0027, Contract Administration and Quality Assurance (GSA Form 1678 and GSA Form 308), in all correspondence related to this collection. All comments received will be posted without change to http://www.regulations.gov, including any personal and/or business confidential information provided.

SUPPLEMENTARY INFORMATION:

A. Purpose

Under certain contracts, because of reliance on contractor inspection in lieu of Government inspection, GSA's Federal Acquisition Service (FAS) requires documentation from its contractors to effectively monitor contractor performance and ensure that it will be able to take timely action should that performance be deficient.

B. Annual Reporting Burden

Respondents: 4,604.

Responses per Respondent: 24.

Hours per Response: .07.

Total Burden Hours: 7,735.

C. Public Comment

Public comments are particularly invited on: Whether this collection of information is necessary and whether it will have practical utility; whether our estimate of the public burden of this collection of information is accurate and based on valid assumptions and methodology; and ways to enhance the quality, utility, and clarity of the information to be collected.

Obtaining Copies of Proposals: Requesters may obtain a copy of the information collection documents from the General Services Administration, Regulatory Secretariat (MVCB), 1800 F Street NW., Washington, DC 20406, telephone 202-501-4755. Please cite OMB Control No. 3090-0027, Contract Administration, Quality Assurance (GSA Form 1678, and GSA Form 308), in all correspondence.

Dated: March 3, 2015.
Jeffrey A. Koses,
Director, Office of Acquisition Policy, Office of Government-wide Policy.

[FR Doc. 2015-05667 Filed 3-11-15; 8:45 am]

BILLING CODE 6820-61-P